DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “Questionnaire and Data Collection Testing, Evaluation, and Research for the Agency for Healthcare Research and Quality”. In accordance with the Paperwork Reduction Act of 1995, Public Law 104-13 (44 U.S.C. 3506(c)(2)(A)), AHRQ invites the public to comment on this proposed information collection.

This proposed information collection was previously published in the Federal Register on August 16th, 2004 and allowed 60 Days for public comment. No public comments were received. The purpose of this notice is to allow an additional 30 Days for public comment.

DATES: Comments on this notice must be received by November 17, 2004.

ADDRESSES: Written comments should be submitted to: John Kraemer, at the Office of Information and Regulatory Affairs, OMB at the email address John_Kraemer@omb.eop.gov and the fax number is (202) 395-6974.

Copies of the proposed collection plans, data collection instruments, and specific details on the estimated burden can be obtained from the AHRQ Reports Clearance Officer.

FOR FURTHER INFORMATION CONTACT: Cynthia D. McMichael, AHRQ, Reports Clearance Officer, (301) 427-1651.

SUPPLEMENTARY INFORMATION:

Proposed Project

“Questionnaire and Data Collection Testing, Evaluation, and Research for the Agency for Healthcare Research and Quality”

AHRQ plans to employ the latest techniques to improve it's current data collections by developing new surveys, and by revising existing surveys in anticipation of, or in response to, changes in the healthcare field, for a 3 year period. The clearance request is limited to testing research questionnaires, data collection methods, and related reports. Data collected under this clearance will be used to improve agency products and such data are not intended for direct use in the development of health policy. The final instruments will be used for subsequent data collections that may impact health policies. A generic clearance for his work will allow AHRQ to draft and test survey instruments more quickly and with greater lead time, thereby managing project time more efficiently and improving the quality of the data it collects.

It is envisioned that in some instances the ability to pretest/pilot-test survey-related instruments, in anticipation of work, or early in a project, may result in the decision not to proceed with particular survey activities, thereby saving both public and private resources and effectively eliminating or reducing respondent burden.

The health care environment changes rapidly and requires a quick response from the agency to provide appropriately refined tools. A generic clearance for this methodological work will facilitate the agency's timely development of survey tools suitable for use in changing conditions.

It is particularly important to refine AHRQ's survey tools because many of the survey tools AHRQ develops are made widely available to users in the private sector. They are made available to help the private sector improve health care quality by enabling the gathering of useful data for analysis and for providing information about health care quality to consumers and purchasers so that they can use their marketplace choices to influence and improve health care quality.

Methods of Collection

Participation in survey testing will be fully voluntary and non-participation will have no affect on eligibility for, or receipt of, future AHRQ health services research support or on future opportunities to participate in research or to obtain informative research results. Specific estimation procedures, when used, will be described when we notify OMB as to actual studies conducted under the clearance.

Estimated Annual Respondent Burden
Type of research activity | Number of respondents | Estimated time per respondent | Total burden hours
Face-to-Face Interviews | 100 | 60 minutes | 100
Field Tests (short) | 2,400 | 20 minutes | 800
Field Tests (long) | 7,600 | 30 minutes | 3,800
Lab Experiments | 200 | 90 minutes | 300
Focus Groups | 100 | 60 minutes | 100
Cognitive Interviews | 100 | 60 minutes | 100
Totals | 10,500 | Not Applicable | 5,200

Estimated Costs to the Federal Government

Expenses for equipment, overhead, printing, and support staff will be incurred by AHRQ components as part of their normal operating budgets. No additional cost to the Federal Government is anticipated. Any deviation from these limits will be noted in reports made to OMB with respect to a particular study or studies conducted under the clearance.

Request for Comments

In accordance with the above-cited legislation, comments on the AHRQ information collection are requested with regard to any of the following: (a) Whether the proposed collection of information is necessary for the proper performance of functions of AHRQ, including whether the information will have practical utility; (b) the accuracy of the AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: October 4, 2004.
Carolyn M. Clancy,
Director.

[FR Doc. 04-23234 Filed 10-15-04; 8:45 am]

BILLING CODE 4160-90-M